ENVIRONMENTAL PROTECTION AGENCY

[FRL-9914-47-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests OMB Approvals

EPA ICR Number 2384.03; NSPS for Commercial and Industrial Solid Waste Incineration (CISWI) units; 40 CFR part 60, subparts A and CCCC; was approved on 06/03/2014; OMB Number 2060-0662; expires on 06/30/2017; Approved without change.

EPA ICR Number 0983.14; NSPS for Equipment Leaks of VOC in Petroleum Refineries; 40 CFR part 60, subparts GGG and GGGa; was approved on 06/03/2014; OMB Number 2060-0067; expires on 06/30/2017; Approved without change.

EPA ICR Number 2485.02; NSPS for Kraft Pulp Mills for which Construction, Reconstruction or Modification Commenced after May 23, 2103; 40 CFR part 60, subpart BBa; was approved on 06/03/2014; OMB Number 2060-0690; expires on 06/30/2017; Approved without change.

EPA ICR Number 2330.02; Pesticide Registration Fees Program; was approved on 06/09/2014; OMB Number 2070-0179; expires on 06/30/2017; Approved without change.

EPA ICR Number 1764.06; National Volatile Organic Compound Emission Standards for Consumer Products; 40 CFR part 59, subpart C; was approved on 06/11/2014; OMB Number 2060-0348; expires on 06/30/2017; Approved without change.

EPA ICR Number 1500.08; National Estuary Program (Renewal); 40 CFR part 35; was approved on 06/11/2014; OMB Number 2040-0138; expires on 06/30/2017; Approved without change.

EPA ICR Number 1854.09; The Consolidated Air Rule (CAR) for the Synthetic Organic Chemical Manufacturing Industry (SOCMI) (Renewal); 40 CFR part 65; part 60, subparts A, Ka, Kb, W, Wa, DDD, III, NNN, RRR; part 61, subparts A, BB, Y, V; part 63, subparts A, F, G, H, I; was approved on 06/16/2014; OMB Number 2060-0443; expires on 06/30/2017; Approved without change.

EPA ICR Number 1632.04; Standards for Pesticide Containers and Containment; 40 CFR parts 156 and 165; was approved on 06/16/2014; OMB Number 2070-0133; expires on 06/30/2017; Approved without change.

EPA ICR Number 0138.10; Modification of Secondary Treatment Requirements for Discharges into Marine Waters (Renewal); 40 CFR part 125; was approved on 06/16/2014; OMB Number 2040-0088; expires on 06/30/2017; Approved without change.

EPA ICR Number 0938.18; General Administrative Requirements for Assistance Programs (Renewal); 40 CFR part 31; was approved on 06/30/2014; OMB Number 2030-0020; expires on 06/30/2017; Approved with change.

Short Term Extension of Expiration Date

EPA ICR Number 0143.13; Recordkeeping Requirements for Producers, Registrants, and Applicants of Pesticides and Pesticide Devices under Section 8 of the Federal Insecticide, Fungicide, and Rodenticide Act (FIFRA) (Renewal); a short term extension of the expiration date was granted by OMB on 06/30/2014; OMB Number 2070-0028; expires on 07/31/2014.

Comment Filed

EPA ICR Number 1176.10; NSPS for New Residential Wood Heaters; in 40 CFR part 60, subpart AAA; OMB filed comment on 06/10/2014.

Spencer W. Clark,
Acting Director, Collections Strategies Division.

[FR Doc. 2014-18452 Filed 8-4-14; 8:45 am]

BILLING CODE 6560-50-P